DEPARTMENT OF THE INTERIOR

Fish and Wildlife Service

[FWS-R5-NWRS-2015-0036; BAC-4311-K9-S3]

Silvio O. Conte National Fish and Wildlife Refuge; Draft Comprehensive Conservation Plan and Environmental Impact Statement

AGENCY: Fish and Wildlife Service, Interior.

ACTION: Notice of availability; request for comments.

SUMMARY: We, the U.S. Fish and Wildlife Service (Service), announce the availability of a draft comprehensive conservation plan (CCP) and environmental impact statement (EIS) for Silvio O. Conte National Fish and Wildlife Refuge (Conte NFWR) for public review and comment. In this draft CCP/EIS, we describe how we propose to manage Conte NFWR over the next 15 years.

DATES: To ensure consideration, we must receive your written comments by November 16, 2015. We will hold informal public information meetings during the comment period to provide information and answer questions on the draft plan. We will also hold four public hearings during the comment period to take oral comments. In addition, we will use special mailings, newspaper articles, internet postings, and other media announcements to inform people of opportunities to provide comments.

ADDRESSES: Send your comments or requests for more information by any one of the following methods:

• Electronically via the Federal eRulemaking Portal at www.regulations.gov. In the “Search” box, commenters will enter the docket number (FWS-R5-NWRS-2015-0036) for this project. Comments can be submitted by clicking on “Comment Now!” Attachments can be made to the electronic comment form.

• By hard copy via U.S. mail or hand-delivery to: Public Comments Processing, Attn: FWS-R5-NWRS-2015-0036; U.S. Fish and Wildlife Service; MS BPHC; 5275 Leesburg Pike, Falls Church, VA 22041-3803.

• Via oral public testimony at one of the four public hearings that will be scheduled.

All comments will be posted to http://www.regulations.gov and will be available for public viewing. This generally means that any personal information you provide us will be posted with the comment.

You will find the draft CCP/EIS, as well as information about the planning process and a summary of the CCP, on the planning Web site at http://www.fws.gov/refuge/Silvio_O_Conte/what_we_do/conservation.html. To view comments on the CCP/EIS from the Environmental Protection Agency (EPA), or for information on EPA's role in the EIS process, see EPA's Role in the EIS Process under SUPPLEMENTARY INFORMATION.

FOR FURTHER INFORMATION CONTACT: Nancy McGarigal, Planning Team Leader, phone: 413-253-8562; Email: nancy_mcgarigal@fws.gov. Please include “Conte Refuge Draft CCP/EIS” in the subject line of the message.

SUPPLEMENTARY INFORMATION:

Introduction

With this notice, we continue the CCP process for Conte NFWR, which we began by publishing a notice of intent in the Federal Register (71 FR 62006) on October 20, 2006. For more information about the initial process and the history of this refuge, please see that notice. In addition, EPA is publishing a notice announcing the availability of the draft CCP/EIS, as required under Section 309 of the Clean Air Act (42 U.S.C. 7401 et seq.). The publication of EPA's notice of availability is the official start of the minimum requirement for a 45-day public comment period. We have chosen to distribute this draft CCP/EIS for a 90-day public comment period.

EPA's Role in the EIS Process

The EPA is charged under Section 309 of the Clean Air Act to review all Federal agencies' EISs and to comment on the adequacy and the acceptability of the environmental impacts of proposed actions in the EISs.

EPA also serves as the repository (EIS database) for EISs prepared by Federal agencies and provides notice of their availability in the Federal Register. The EIS database provides information about EISs prepared by Federal agencies, as well as EPA's comments concerning the EISs. All EISs are filed with EPA, which publishes a notice of availability on Fridays in the Federal Register. For more information, see http://www.epa.gov/compliance/nepa/eisdata.html. You may search for EPA comments on EISs, along with EISs themselves, at https://cdxnodengn.epa.gov/cdx-enepa-public/action/eis/search.

Background

The National Wildlife Refuge System Administration Act of 1966, (Administration Act), as amended by the National Wildlife Refuge System Improvement Act of 1997 (16 U.S.C. 668dd-668ee), requires us to develop a CCP for each national wildlife refuge. The purpose of a CCP is to provide refuge managers with a 15-year strategy for achieving refuge purposes and contributing toward the mission of the National Wildlife Refuge System (NWRS), consistent with sound principles of fish and wildlife management, conservation, legal mandates, and Service policies. In addition to outlining broad management direction on conserving wildlife and their habitats, CCPs identify wildlife-dependent recreational opportunities available to the public, including opportunities for hunting, fishing, wildlife observation and photography, and environmental education and interpretation. We will review and update the CCP at least every 15 years in accordance with the Administration Act.

Each unit of the NWRS was established for specific purposes. We use these purposes as the foundation for developing and prioritizing the management goals and objectives for each refuge within the NWRS mission, and to determine how the public can use each refuge. The planning process is a way for us and the public to evaluate management goals and objectives that will ensure the best possible approach to wildlife, plant, and habitat conservation, while providing for wildlife-dependent recreation opportunities that are compatible with each refuge's establishing purposes and the mission of the NWRS.

Additional Information

The draft CCP/EIS for Conte NFWR, which includes detailed information about the planning process, refuge, issues, and management alternatives considered and proposed, may be found at http://www.fws.gov/refuge/Silvio_O_Conte/what_we_do/conservation.html. There are four alternative refuge management options considered in the draft plan. The Service's preferred alternative is alternative C.

The alternatives analyzed in detail include:

• Alternative A—Current Management: This alternative represents continuing current management and serves as a baseline for comparing the other alternatives. Under this alternative, we would continue our current habitat and visitor services management activities on existing refuge lands. We would also continue to work with our existing partners throughout the Connecticut River Watershed (watershed) to support our conservation, education, and recreation programs. We would continue to actively manage forest habitats on the Nulhegan Basin Division (Vermont) to benefit forest-dependent species of conservation concern, and manage grasslands and shrublands habitats on our Pondicherry (New Hampshire) and Fort River (Massachusetts) Divisions for species dependent on those habitats. We would maintain our hunting and fishing programs on refuge lands, which generally are managed consistent with respective State regulations. We would also continue to acquire lands from willing sellers under our existing approved land acquisition authority of approximately 98,000 acres. Our focus would continue to be on acquiring lands that were identified in the refuge's 1995 Master Plan and its accompanying EIS.

• Alternative B—Consolidated Stewardship: This alternative would strategically focus our work with partners, and our staffing, funding, and other resource commitments across the watershed, in 14 defined geographic areas called Conservation Partnership Areas (CPAs). CPAs are large areas, defined by sub-watersheds, with concentrations of high-value habitat for fish and wildlife. Within CPAs, we have identified a total of 18 areas we call Conservation Focus Areas (CFAs). These are areas with particularly high value to Federal trust resources and represent where we would focus our future refuge land acquisition. Under alternative B, we would not seek to expand the refuge beyond our current acreage authority. Instead, we propose to focus acquisition in CFAs rather than in the smaller, scattered areas proposed in the refuge's 1995 Master Plan and EIS. Under alternative B, we would expand our current wildlife habitat and visitor services management activities to other refuge divisions, and support those same opportunities within CPAs on other ownerships across the watershed.

• Alternative C—Enhanced Conservation Connections and Partnerships (Service's Preferred Alternative): Similar to alternative B, we would prioritize our work with partners in CPAs, and focus future refuge acquisitions in CFAs. However, under alternative C, we would seek to expand the refuge's approved acquisition authority in the watershed up to approximately 197,000 acres. The expanded network of 17 CPAs and 22 CFAs would allow for greater flexibility and opportunity for us to work with partners to achieve common conservation goals. We would be a more significant contributor to a well-connected conserved lands network in the watershed. Under alternative C, we would be able to increase our benefits to species of conservation concern by managing more acres of habitat with better distribution across the watershed. Expanding the refuge land base would also enhance our ability to address, and adapt our management to, climate change. We would be able to provide more public access for compatible recreational opportunities such as hunting, fishing, wildlife observation, and photography. We would also expand our education and interpretive programs with an emphasis on engaging urban communities.

• Alternative D—Conservation Connections Emphasizing Natural Processes: Similar to alternative C, we would prioritize our work both on and off refuge lands in the same 17 CPAs, and would focus refuge acquisition in the same 22 CFAs. However, under alternative D, we would further expand individual CFAs and seek additional acquisition authority of up to approximately 236,000 acres. The increased acres would further enhance the refuge's capability to establish connections in the watershed's conserved lands network, and would strengthen our ability to adapt refuge lands to climate change. A major difference between alternatives C and D is that alternative D proposes to limit active habitat management. We would only intervene in natural processes when a federally listed species is in jeopardy, or a major wildfire or pest outbreak occurs and restoration is a critical need. Under alternative D, we would be able to provide more public access due to the increased land base, but our visitor services programs would emphasize a reduced human footprint, with a focus on backcountry opportunities and fewer developed areas.

Public Involvement

We will give the public an opportunity to ask questions and obtain more information about the draft plan at our informal public meetings. We will take oral testimony at the formal public hearings. You can obtain the schedule for meetings and the hearings, and find the address for submitting your comments, from the address or Web site listed in this notice (see ADDRESSES). You may also submit written comments anytime during the comment period.

Public Availability of Comments

Before including your address, phone number, email address, or other personal identifying information in your comment, you should be aware that your entire comment—including your personal identifying information—may be made publicly available at any time. While you can ask us in your comment to withhold your personal identifying information from public review, we cannot guarantee that we will be able to do so.

Dated: June 3, 2015.
Wendi Weber,
Regional Director, Northeast Region.

[FR Doc. 2015-20184 Filed 8-17-15; 8:45 am]

BILLING CODE 4310-55-P